DEPARTMENT OF EDUCATION

Free Application for Federal Student Aid (FAFSA®) Information To Be Verified for the 2018-2019 Award Year

AGENCY: Office of Postsecondary Education, Department of Education.

ACTION: Notice.

SUMMARY: For each award year, the Secretary publishes in the Federal Register a notice announcing the FAFSA information that an institution and an applicant may be required to verify, as well as the acceptable documentation for verifying FAFSA information. This is the notice for the 2018-2019 award year.

FOR FURTHER INFORMATION CONTACT: Jacquelyn C. Butler, U.S. Department of Education, 400 Maryland Avenue SW., Room 6W232, Washington, DC 20202. Telephone: (202) 453-6088.

If you use a telecommunications device for the deaf (TDD) or a text telephone (TTY), call the Federal Relay Service (FRS), toll free, at 1-800-877-8339.

Individuals with disabilities can obtain this document in an accessible format (e.g., braille, large print, audiotape, or compact disc) on request to the program contact person listed under FOR FURTHER INFORMATION CONTACT.

SUPPLEMENTARY INFORMATION: If the Secretary selects an applicant for verification, the applicant's Institutional Student Information Record (ISIR) includes flags that indicate (1) that the applicant has been selected by the Secretary for verification and (2) the Verification Tracking Group in which the applicant has been placed. The Verification Tracking Group indicates which FAFSA information needs to be verified for the applicant and, if appropriate, for the applicant's parent(s) or spouse. The Student Aid Report (SAR) provided to the applicant will indicate that the applicant's FAFSA information has been selected for verification and direct the applicant to contact the institution for further instructions for completing the verification process.

The following chart lists, for the 2018-2019 award year, the FAFSA information that an institution and an applicant and, if appropriate, the applicant's parent(s) or spouse may be required to verify under 34 CFR 668.56. The chart also lists the acceptable documentation that must, under § 668.57, be provided to an institution for that information to be verified.

FAFSA information | Acceptable documentation
Income information for tax filers a. Adjusted Gross Income (AGI) b. U.S. Income Tax Paid c. Untaxed Portions of IRA Distributions d. Untaxed Portions of Pensions e. IRA Deductions and Payments f. Tax Exempt Interest Income g. Education Credits | (1) 2016 tax account information of the tax filer that the Secretary has identified as having been obtained from the Internal Revenue Service (IRS) through the IRS Data Retrieval Tool and that has not been changed after the information was obtained from the IRS; or (2) A transcript ¹ obtained at no cost from the IRS or other relevant tax authority of a U.S. territory (Guam, American Samoa, the U.S. Virgin Islands) or commonwealth (Puerto Rico and the Northern Mariana Islands), or a foreign government that lists 2016 tax account information of the tax filer.
Income information for tax filers with special circumstances a. Adjusted Gross Income (AGI) b. U.S. Income Tax Paid c. Untaxed Portions of IRA Distributions d. Untaxed Portions of Pensions e. IRA Deductions and Payments f. Tax Exempt Interest Income g. Education Credits | (1) For a student, or the parent(s) of a dependent student, who filed a 2016 joint income tax return and whose income is used in the calculation of the applicant's expected family contribution and who at the time the FAFSA was completed was separated, divorced, widowed, or married to someone other than the individual included on the 2016 joint income tax return— (a) A transcript obtained from the IRS or other relevant tax authority that lists 2016 tax account information of the tax filer(s); and (b) A copy of IRS Form W-2 ² for each source of 2016 employment income received or an equivalent document.² (2) For an individual who is required to file a 2016 IRS income tax return and has been granted a filing extension by the IRS beyond the automatic six-month extension for tax year 2016— (a) A copy of IRS Form 4868,³ “Application for Automatic Extension of Time to File U.S. Individual Income Tax Return,” the individual filed with the IRS for tax year 2016;
| (b) A copy of the IRS's approval of an extension beyond the automatic six-month extension for tax year 2016;
| (c) Confirmation of nonfiling from the IRS dated on or after October 1, 2017;
| (d) A copy of IRS Form W-2 ² for each source of 2016 employment income received or an equivalent document; ² and
| (e) If self-employed, a signed statement certifying the amount of AGI and U.S. income tax paid for tax year 2016.
| Note: An institution may require that, after the income tax return is filed, an individual granted a filing extension beyond the automatic six-month extension submit tax information using the IRS Data Retrieval Tool or by obtaining a transcript from the IRS that lists 2016 tax account information. When an institution receives such information, it must be used to reverify the FAFSA information included on the transcript.
| (3) For an individual who was the victim of IRS tax-related identity theft—
| (a) A Tax Return DataBase View (TRDBV) transcript obtained from the IRS; and
| (b) A statement signed and dated by the tax filer indicating that he or she was a victim of IRS tax-related identity theft and that the IRS has been made aware of the tax-related identity theft.
| Note: Tax filers may inform the IRS of the tax-related identity theft and obtain a TRDBV transcript by calling the IRS's Identity Protection Specialized Unit (IPSU) at 1-800-908-4490. Tax filers who cannot obtain a TRDBV transcript may instead submit another official IRS transcript or equivalent document provided by the IRS if it includes all of the income and tax information required to be verified. Unless the institution has reason to suspect the authenticity of the TRDBV transcript or an equivalent document provided by the IRS, a signature or stamp or any other validation from the IRS is not needed.
| (4) For an individual who filed an amended tax return with the IRS—
| (a) A transcript obtained from the IRS that lists 2016 tax account information of the tax filer(s); and
| (b) A signed copy of the IRS Form 1040X that was filed with the IRS.
Income information for nontax filers Income earned from work | For an individual who has not filed and, under IRS or other relevant tax authority rules (e.g., the Republic of the Marshall Islands, the Republic of Palau, the Federated States of Micronesia, a U.S. territory or commonwealth or a foreign government), is not required to file a 2016 income tax return—
| (1) A signed statement certifying—
| (a) That the individual has not filed and is not required to file a 2016 income tax return; and
| (b) The sources of 2016 income earned from work and the amount of income from each source;
| (2) A copy of IRS Form W-2 ² for each source of 2016 employment income received or an equivalent document; ² and
| (3) Except for dependent students, confirmation of nonfiling from the IRS or other relevant tax authority dated on or after October 1, 2017.
Number of Household Members | A statement signed by the applicant and, if the applicant is a dependent student, by one of the applicant's parents, that lists the name and age of each household member for the 2018-2019 award year and the relationship of that household member to the applicant.
| Note: Verification of number of household members is not required if—
| • For a dependent student, the household size indicated on the ISIR is two and the parent is single, separated, divorced, or widowed, or the household size indicated on the ISIR is three if the parents are married or unmarried and living together; or
| • For an independent student, the household size indicated on the ISIR is one and the applicant is single, separated, divorced, or widowed, or the household size indicated on the ISIR is two if the applicant is married.
Number in College | (1) A statement signed by the applicant and, if the applicant is a dependent student, by one of the applicant's parents listing the name and age of each household member who is or will be attending an eligible postsecondary educational institution as at least a half-time student in the 2018-2019 award year in a program that leads to a degree or certificate and the name of that educational institution.
| (2) If an institution has reason to believe that the signed statement provided by the applicant regarding the number of household members enrolled in eligible postsecondary institutions is inaccurate, the institution must obtain documentation from each institution named by the applicant that the household member in question is, or will be, attending on at least a half-time basis unless—
| (a) The applicant's institution determines that such documentation is not available because the household member in question has not yet registered at the institution the household member plans to attend; or
| (b) The institution has documentation indicating that the household member in question will be attending the same institution as the applicant.
| Note: Verification of the number of household members in college is not required if the number in college indicated on the ISIR is “1.”
High School Completion Status | The applicant's high school completion status when the applicant attends the institution in 2018-2019.
| (1) High School Diploma (a) A copy of the applicant's high school diploma;
| (b) A copy of the applicant's final official high school transcript that shows the date when the diploma was awarded; or
| (c) A copy of the “secondary school leaving certificate” (or other similar document) for students who completed secondary education in a foreign country and are unable to obtain a copy of their high school diploma or transcript.
| Note: Institutions that have the expertise may evaluate foreign secondary school credentials to determine their equivalence to U.S. high school diplomas. Institutions may also use a foreign diploma evaluation service for this purpose.
| (2) Recognized Equivalent of a High School Diploma (a) General Educational Development (GED) Certificate or GED transcript;
| (b) A State certificate or transcript received by a student after the student has passed a State-authorized examination (HiSET, TASC, or other State-authorized examination) that the State recognizes as the equivalent of a high school diploma;
| (c) An academic transcript that indicates the student successfully completed at least a two-year program that is acceptable for full credit toward a bachelor's degree at any participating institution; or
| (d) For a person who is seeking enrollment in an educational program that leads to at least an associate degree or its equivalent and who excelled academically in high school but did not complete high school, documentation from the high school that the student excelled academically and documentation from the postsecondary institution that the student has met its written policies for admitting such students.
| (3) Homeschool (a) If the State where the student was homeschooled requires by law that such students obtain a secondary school completion credential for homeschool (other than a high school diploma or its recognized equivalent), a copy of that credential; or
| (b) If such State law does not require the credential noted in (3a), a transcript or the equivalent signed by the student's parent or guardian that lists the secondary school courses the student completed and documents the successful completion of a secondary school education in a homeschool setting.
| Note: In cases where documentation of an applicant's completion of a secondary school education is unavailable, e.g., the secondary school is closed and information is not available from another source, such as the local school district or a State Department of Education, or in the case of homeschooling, the parent(s)/guardian(s) who provided the homeschooling is deceased, an institution may accept alternative documentation to verify the applicant's high school completion status (e.g., DD Form 214 Certificate of Release or Discharge From Active Duty that indicates the individual is a high school graduate or equivalent).
| When documenting an applicant's high school completion status, an institution may rely on documentation it has already collected for purposes other than the Title IV verification requirements (e.g., high school transcripts maintained in the admissions office) if the documentation meets the criteria outlined above.
| Verification of high school completion status is not required if the institution successfully verified and documented the applicant's high school completion status for a prior award year.
Identity/Statement of Educational Purpose | (1) An applicant must appear in person and present the following documentation to an institutionally authorized individual to verify the applicant's identity—
| (a) An unexpired valid government-issued photo identification ⁴ such as, but not limited to, a driver's license, non-driver's identification card, other State-issued identification, or U.S. passport. The institution must maintain an annotated copy of the unexpired valid government-issued photo identification that includes—
| i. The date the identification was presented; and
| ii. The name of the institutionally authorized individual who reviewed the identification; and
| (b) A signed statement using the exact language as follows, except that the student's identification number is optional if collected elsewhere on the same page as the statement:
| Statement of Educational Purpose I certify that I __________ (Print Student's Name) the individual signing this Statement of Educational Purpose and that the Federal student financial assistance I may receive will only be used for educational purposes and to pay the cost of attending ________ for 2018-2019. (Name of Postsecondary Educational Institution) __________________ ______ (Student's Signature) (Date) __________ (Student's ID Number)
| (2) If an institution determines that an applicant is unable to appear in person to present an unexpired valid photo identification and execute the Statement of Educational Purpose, the applicant must provide the instituton with—
| (a) A copy of an unexpired valid government-issued photo identification ⁴ such as, but not limited to, a driver's license, non-driver's identification card, other State-issued identification, or U.S. passport, that is acknowledged in a notary statement or that is presented to a notary; and
| (b) An original notarized statement signed by the applicant using the exact language as follows, except that the student's identification number is optional if collected elsewhere on the same page as the statement:
| Statement of Educational Purpose I certify that I __________ (Print Student's Name) the individual signing this Statement of Educational Purpose and that the Federal student financial assistance I may receive will only be used for educational purposes and to pay the cost of attending ________ for 2018-2019. (Name of Postsecondary Educational Institution) __________________ ______ (Student's Signature) (Date) __________ (Student's ID Number)
¹ In lieu of obtaining a transcript whenever mentioned in the above chart, an institution may accept from the tax filer a copy of the 2016 income tax return that was submitted to the IRS or other tax authority only—
(a) When the Secretary issues guidance permitting such submission; or
(b) When the tax authority of a U.S. territory (Guam, American Samoa, the U.S. Virgin Islands) or commonwealth (Puerto Rico and the Northern Mariana Islands), or a foreign government does not provide the required information at no charge to the tax filer.
The copy of the 2016 income tax return must include the signature of the tax filer, or one of the filers of a joint income tax return, or the signed, stamped, typed, or printed name and address of the preparer of the income tax return and the preparer's Social Security Number, Employer Identification Number, or Preparer Tax Identification Number.
For a tax filer who filed an income tax return other than an IRS form, such as a foreign or Puerto Rican tax form, the institution must use the income information (converted to U.S. dollars) from the lines of that form that correspond most closely to the income information reported on a U.S. income tax return.
An individual who did not retain a copy of his or her 2016 tax account information and for whom that information cannot be located by the IRS or other relevant tax authority, must submit to the institution—
(a) Copies of all IRS Form W-2s for each source of 2016 employment income or equivalent documents; or
(b) If self-employed or filed an income tax return with a government of a U. S. territory or commonwealth, or a foreign government, a signed statement certifying the amount of AGI and income taxes paid for tax year 2016; and
(c) Documentation from the IRS or other relevant tax authority that indicates the individual's 2016 tax account information cannot be located; and
(d) A signed statement that indicates that the individual did not retain a copy of his or her 2016 tax account information.
² An individual who is required to submit an IRS Form W-2 or an equivalent document but did not maintain a copy should request a duplicate from the employer who issued the original or from the government agency that issued the equivalent document. If the individual is unable to obtain a duplicate W-2 or an equivalent document in a timely manner, the institution may permit that individual to provide a signed statement, in accordance with 34 CFR 668.57(a)(6), that includes—
(a) The amount of income earned from work;
(b) The source of that income; and
(c) The reason why the IRS Form W-2, or an equivalent document, is not available in a timely manner.
³ For an individual who was called up for active duty or for qualifying National Guard duty during a war or other military operation or national emergency, in lieu of IRS Form 4868, an institution must accept a statement from the individual certifying that he or she has not filed an income tax return or a request for a filing extension because of that service.
⁴ An unexpired valid government-issued photo identification is one issued by the U.S. government, any of the 50 States, the District of Columbia, the Commonwealth of Puerto Rico, a federally recognized American Indian and Alaska Native Tribe, American Samoa, Guam, the Virgin Islands, the Commonwealth of the Northern Mariana Islands, the Republic of the Marshall Islands, the Federated States of Micronesia, or the Republic of Palau.

Verification Requirements for Individuals Who Are Eligible for an Auto Zero Expected Family Contribution (EFC)

Only the following FAFSA/ISIR information must be verified:

For dependent students—

• The parents' AGI if the parents were tax filers;

• The parents' income earned from work if the parents were nontax filers; and

• The student's high school completion status and identity/statement of educational purpose, if selected.

For independent students—

• The student's and spouse's AGI if they were tax filers;

• The student's and spouse's income earned from work if they were nontax filers;

• The student's high school completion status and identity/statement of educational purpose, if selected; and

• The number of household members to determine if the independent student has one or more dependents other than a spouse.

Other Sources for Detailed Information

We provide a more detailed discussion on the verification process in the following resources:

• 2018-2019 Application and Verification Guide.

• 2018-2019 ISIR Guide.

• 2018-2019 SAR Comment Codes and Text.

• 2018-2019 COD Technical Reference.

• Program Integrity Information—Questions and Answers on Verification at http://www2.ed.gov/policy/highered/reg/hearulemaking/2009/verification.html.

These publications are on the Information for Financial Aid Professionals Web site at www.ifap.ed.gov.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Program Authority: 20 U.S.C. 1070a, 1070a-1, 1070b-1070b-4, 1070c-1070c-4, 1070g, 1071-1087-2, 1087a-1087j, and 1087aa-1087ii; 42 U.S.C. 2751-2756b.

CFDA Numbers: 84.007, 84.033, 84.038, 84.063, and 84.268.

Dated: May 2, 2017.
Lynn B. Mahaffie,
Acting Assistant Secretary for Postsecondary Education.

[FR Doc. 2017-09167 Filed 5-4-17; 8:45 am]

BILLING CODE 4000-01-P